DEPARTMENT OF HEALTH AND HUMAN SERVICES

Health Resources and Services Administration

Agency Information Collection Activities: Proposed Collection: Public Comment Request Information Collection Request Title: The Maternal, Infant, and Early Childhood Home Visiting Program Statewide Needs Assessment Update

AGENCY: Health Resources and Services Administration (HRSA), Department of Health and Human Services.

ACTION: Notice.

SUMMARY: In compliance with the requirement for opportunity for public comment on proposed data collection projects of the Paperwork Reduction Act of 1995, HRSA announces plans to submit a Supplemental Information Request (SIR), described below, to the Office of Management and Budget (OMB). Prior to submitting the SIR to OMB, HRSA seeks comments from the public regarding the burden estimate, below, or any other aspect of the SIR.

DATES: Comments on this SIR should be received no later than June 25, 2018.

ADDRESSES: Submit your comments to paperwork@hrsa.gov or mail the HRSA Information Collection Clearance Officer, 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION:

Information Collection Request Title: The Maternal, Infant, and Early Childhood Home Visiting Program Needs Assessment Update

OMB No.: 0906-XXXX, New.

Abstract: HRSA is requesting approval to collect updated statewide needs assessments from Maternal, Infant, and Early Childhood Home Visiting (MIECHV) Program awardees. The previous statewide needs assessment that was approved under OMB control number 0915-0333 has been discontinued. Eligible entities that are states, the District of Columbia, and non-profit organizations will submit statewide needs assessment updates in response to a forthcoming SIR.

The MIECHV Program, authorized by section 511 of the Social Security Act, 42 U.S.C. 711, and administered by HRSA in partnership with the Administration for Children and Families, supports voluntary, evidence-based home visiting services during pregnancy and to parents with young children up to kindergarten entry. States, territories, and tribal entities, and nonprofit organizations, in certain circumstances, are eligible to receive funding through MIECHV and have the flexibility, within the parameters of the authorizing statute, to tailor the program to serve the specific needs of their communities.

The statewide needs assessment is a critical and foundational resource that assists awardees in identifying and understanding how to meet the needs of eligible families living in at-risk communities in their states.

Need and Proposed Use of the Information: Congress, through enactment of the Social Security Act, Title V, Section 511 (42 U.S.C. 711), as amended, established the MIECHV Program. The MIECHV Program is designed to: (1) Strengthen and improve the programs and activities carried out under Title V of the Social Security Act; (2) improve coordination of services for at risk communities; and (3) identify and provide comprehensive services to improve outcomes for families who reside in at risk communities. Section 50603 of the Bipartisan Budget Act of 2018 (Pub. L. 115-123) amended section 511(b)(1) of the Social Security Act, and requires that states review and update their statewide needs assessments (which may be separate from, but in coordination with, the Title V statewide needs assessment) no later than October 1, 2020, as a condition of receiving payments from Title V Block Grant allotments.

In response to the forthcoming SIR, state and territory awardees will be required to submit an updated statewide needs assessment that identifies all of the following information, as required by the MIECHV authorizing statute:

(1) Communities with concentrations of (a) premature birth, low-birth weight infants, and infant mortality, including infant death due to neglect, or other indicators of at-risk prenatal, maternal, newborn, or child health; (b) poverty; (c) crime; (d) domestic violence; (e) high rates of high-school drop-outs; (f) substance abuse; (g) unemployment; or (h) child maltreatment.

(2) The quality and capacity of existing programs or initiatives for early childhood home visitation in the state including: the number and types of individuals and families who are receiving services under such programs or initiatives; the gaps in early childhood home visitation in the state; and the extent to which such programs or initiatives are meeting the needs of eligible families.

(3) The state's capacity for providing substance abuse treatment and counseling services to individuals and families in need of such treatment or services.

The forthcoming SIR will provide further guidance to states in updating their statewide needs assessments and submitting the required information to HRSA. States that have elected not to apply for or be awarded MIECHV funds are encouraged to work with nonprofit organizations that have received awards to provide MIECHV services within the state and indicate whether they will submit their needs assessments directly or through the nonprofit organization awardee. HRSA, states, and nonprofits providing MIECHV services within states will use the information collected through the needs assessment update to reaffirm the provision of MIECHV home visiting services in at-risk communities. The information will also be used to support program planning, improvement, and decision-making. The needs assessment update is not intended to disrupt current services or negatively impact communities that have benefited from home visiting programs, nor is the intent of the update to require awardees to shift resources away from at-risk communities they currently serve.

Likely Respondents: MIECHV Program Awardees that are states, territories, and, where applicable, nonprofit organizations providing services within states.

Burden Statement: Burden in this context means the time expended by persons to generate, maintain, retain, disclose, or provide the information requested. This includes the time needed to review instructions and supporting materials; to collect and analyze data; engage with stakeholders and coordinate with state level partners; and to draft and submit the report. The table below summarizes the total annual burden hours estimated for this SIR.

Total Estimated Annualized Burden Hours
Instrument | Number of respondents | Number of responses per respondent | Total responses | Average burden hours per response | Total burden hours
Maternal, Infant, and Early Childhood Home Visiting Program Statewide Needs Assessment Update | 56 | 1 | 56 | 95.57 | 5,352
Total | 56 |  | 56 |  | 5,352

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy P. McNulty,
Acting Director, Division of the Executive Secretariat.

[FR Doc. 2018-08539 Filed 4-23-18; 8:45 am]

BILLING CODE 4165-15-P